DEPARTMENT OF COMMERCE

National Oceanic and Atmospheric Administration

50 CFR Part 216

[Docket No. 080302361-6677-01]

RIN 0648-AU02

Protective Regulations for Hawaiian Spinner Dolphins Under the Marine Mammal Protection Act; Reopening of Public Comment Period

AGENCY: National Marine Fisheries Service (NMFS), National Oceanic and Atmospheric Administration (NOAA), Commerce.

ACTION: Proposed rule; reopening of public comment period.

SUMMARY: We, the National Marine Fisheries Service (NMFS), are reopening the public comment period on the proposed rule under the Marine Mammal Protection Act (MMPA) to prohibit swimming with and approaching a Hawaiian spinner dolphin within 50 yards (45.7 m) (for persons, vessels, and objects), including approach by interception. The comment period for the proposed rule that published on August 24, 2016 (81 FR 57854) closed on October 23, 2016. NMFS is reopening the public comment period for an additional 15 days to provide the public with additional time to submit information and to comment on this proposed rule.

DATES: Written comments on this proposed rule must be received by December 1, 2016. Comments received between the close of the first comment period on October 23, 2016, and the reopening of the comment period November 16, 2016 will be considered timely received.

ADDRESSES: You may submit comments, information, or data on the proposed rule, identified by NOAA-2005-0226, and on the Draft Environmental Impact Statement (DEIS) by either of the following methods:

Electronic Submission: Submit all electronic comments via the Federal eRulemaking Portal. Go to www.regulations.gov/#!docketDetail;D=NOAA-2005-0226, click the “Comment Now!” icon, complete the required fields, and enter or attach your comments.

Mail: Submit written comments to Susan Pultz, Chief, Conservation Planning and Rulemaking Branch, Protected Resources Division, National Marine Fisheries Service, Pacific Islands Regional Office, 1845 Wasp Blvd., Bldg. 176, Honolulu, HI 96818, Attn: Hawaiian Spinner Dolphin Proposed Rule.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

The DEIS and references can be found online at http://www.fpir.noaa.gov/PRD/prd_spinner_EIS.html. Additionally, copies of the DEIS are available in print at the following libraries:

Hilo Library, 300 Waianuenue Ave., Hilo, HI 96720;

Kailua-Kona Library, 75-138 Hualalai Rd., Kailua Kona, HI 96740;

Kealakekua Library, 81-6619 Mamalahoa Hwy., Kealakekua, HI 96750;

Pahoa Library, 15-3070 Pahoa-Kalapana Rd., Pahoa, HI 96778;

Kihei Library, 35 Waimahaihai St., Kihei, HI 96753;

Lahaina Library, 680 Wharf St., Lahaina, HI 96761;

Lanai Library, 555 Fraser Ave., Lanai City, HI 96763;

Hawaii State Library, 478 S. King St., Honolulu, HI 96813;

Waianae Library, 85-625 Farrington Hwy., Waianae, HI 96792; and

Lihue Library, 4344 Hardy St., Lihue, HI 96766;

or upon request from the Conservation Planning and Rulemaking Branch Chief (see ADDRESSES).

FOR FURTHER INFORMATION CONTACT: Susan Pultz, NMFS, Pacific Islands Region, Chief, Conservation Planning and Rulemaking Branch, 808-725-5150; or Trevor Spradlin, NMFS, Office of Protected Resources, Acting Chief, Marine Mammal and Sea Turtle Conservation Division, 301-427-8402.

SUPPLEMENTARY INFORMATION:

Background

On August 24, 2016, we published a proposed rule to prohibit swimming with and approaching a Hawaiian spinner dolphin within 50 yards (45.7 meters) (for persons, vessels, and objects), including approach by interception. These proposed regulatory measures are intended to prevent take, as defined under the Marine Mammal Protection Act (MMPA), of Hawaiian spinner dolphins from occurring in marine areas where viewing pressures are most prevalent. The proposed rule allowed for a 60-day public comment period, which ended on October 23, 2016.

NMFS has received several requests to extend the public comment period. These requests indicated that additional time was needed to consider more fully the proposed rulemaking and DEIS and to provide comments on the proposed regulations. Requests also indicated that additional time was needed for tour operators to compile and provide data with regard to spinner dolphin use of coastal habitats from multiple years of logbook records. In response to these requests, we are reopening the public comment period until December 1, 2016, to receive additional information and comments that may be relevant to any aspect of the proposal. Comments and information submitted during the prior comment period will be fully considered in the preparation of the final rule and need not be resubmitted.

Authority: 16 U.S.C. 1361 et seq.

Dated: November 8, 2016.
Samuel D. Rauch III,
Deputy Assistant Administrator for Regulatory Programs, National Marine Fisheries Service.

[FR Doc. 2016-27399 Filed 11-15-16; 8:45 am]

BILLING CODE 3510-22-P